DEPARTMENT OF TRANSPORTATION

Surface Transportation Board

[STB Finance Docket No. 34731]

Nittany and Bald Eagle Railroad Company—Temporary Trackage Rights Exemption—Norfolk Southern Railway Company

Norfolk Southern Railway Company (NSR) has agreed to grant non-exclusive, overhead, temporary trackage rights to Nittany and Bald Eagle Railroad Company (N&BE) over a portion of NSR's rail line between Lock Haven, PA, NSR milepost 194.2, and Driftwood, PA, NSR milepost 139.2, a distance of approximately 55 miles. The transaction was scheduled to be consummated on or after the September 19, 2005 effective date of the exemption, and will expire on November 30, 2005. The purpose of the temporary trackage rights is to allow N&BE to operate bridge train service for temporary, seasonal traffic.¹

¹ A redacted version of the trackage rights agreement between NSR and N&BE was filed with the notice of exemption. The full version of the agreement, as required by 49 CFR 1180.6(a)(7)(ii), was concurrently filed under seal along with a motion for protective order. A protective order was served on September 21, 2005.

As a condition to this exemption, any employees affected by the acquisition of the temporary trackage rights will be protected by the conditions imposed in Norfolk and Western Ry. Co.—Trackage Rights—BN, 354 I.C.C. 605 (1978), as modified in Mendocino Coast Ry., Inc.—Lease and Operate, 360 I.C.C. 653 (1980), any employees affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34731, must be filed with the Surface Transportation Board, 1925 K Street, NW., Washington, DC 20423-0001. In addition, one copy of each pleading must be served on Richard R. Wilson, 127 Lexington Avenue, Suite 100, Altoona, PA 16601.

Board decisions and notices are available on our Web site at http://www.stb.dot.gov.

Decided: September 21, 2005.
By the Board, David M. Konschnik, Director, Office of Proceedings.
Vernon A. Williams,
Secretary.

[FR Doc. 05-19269 Filed 9-27-05; 8:45 am]

BILLING CODE 4915-01-P